DEPARTMENT OF COMMERCE

National Oceanic and Atmospheric Administration

RIN 0648-XC248

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a conference call of its Coastal Pelagic Species Management Team (CPSMT). A listening station will be available at the Pacific Council offices for interested members of the public, and there may be opportunities to attend the meeting remotely.

DATES: The conference call will be held Tuesday, October 9, 2012, from 10 a.m. to 12 p.m.

ADDRESSES: The meeting will be held via conference call, with a public listening station available at the Pacific Council offices, 7700 NE Ambassador Place, Suite 101, Portland, OR 97220.

FOR FURTHER INFORMATION CONTACT: Kerry Griffin, Staff Officer; telephone: (503) 820-2280.

SUPPLEMENTARY INFORMATION: The primary purpose of the conference call is to discuss a proposed harvest parameters workshop. Other items that may be discussed include the 2012 Pacific sardine stock assessment update, and items related to the November 2012 Council meeting.

Action will be restricted to those issues specifically listed in this notice and any issues arising after publication of this notice that require emergency action under Section 305(c) of the Magnuson-Stevens Fishery Conservation and Management Act, provided the public has been notified of the CPSMT's intent to take final action to address the emergency.

Special Accommodations

This listening station is physically accessible to people with disabilities. Requests for sign language interpretation or other auxiliary aids should be directed to Mr. Kris Kleinschmidt, at (503) 820-2280, at least 5 days prior to the meeting date.

Dated: September 18, 2012.
Tracey L. Thompson,
Acting Deputy Director, Office of Sustainable Fisheries, National Marine Fisheries Service.

[FR Doc. 2012-23312 Filed 9-20-12; 8:45 am]

BILLING CODE 3510-22-P